DEPARTMENT OF HEALTH AND HUMAN SERVICES

Agency for Healthcare Research and Quality

Agency Information Collection Activities: Proposed Collection; Comment Request; Correction

AGENCY: Agency for Healthcare Research and Quality (AHRQ), HHS.

ACTION: Notice, correction.

SUMMARY: The Agency for Healthcare Research and Quality published a document in the Federal Register of May 11, 2018 regarding AHRQ Seeking Input on Library of Patient-Centered Outcomes Research Resources. This document contained an error and the deadline date has been extended.

FOR FURTHER INFORMATION CONTACT: Carla Ladner @301-427-1205 or AHRQ_Fed_Register@ahrq.hhs.gov.

Corrections

In the Federal Register of May 11, 2018, in FR Doc 2018-10090, on page 1, line 27, correct the DATES caption to read:

DATES: Submission deadline on or before June 29, 2018.

In the Federal Register of May 11, 2018, in FR Doc 2018-10090, on page 2, line 62, include the phase to read: “Specific website for Review—Library of PCOR Resources https://www.ahrq.gov/pcor/library-of-resources/index.html.”

Dated: May 23, 2018.
Carla M. Ladner,
Correspondence Analyst/Federal Register Liaison—AHRQ.

[FR Doc. 2018-11472 Filed 5-25-18; 8:45 am]

BILLING CODE 4160-90-P